DEPARTMENT OF HOMELAND SECURITY

Federal Emergency Management Agency

44 CFR Part 64

[Docket ID FEMA-2016-0002; Internal Agency Docket No. FEMA-8437]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact Patricia Suber, Federal Insurance and Mitigation Administration, Federal Emergency Management Agency, 500 C Street SW., Washington, DC 20472, (202) 646-4149.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I |  |  |  |
Maine:
Bald Island, Hancock County | 231011 | April 4, 1979, Emerg; April 30, 1984, Reg; July 20, 2016, Susp | July 20, 2016 | July 20, 2016.
Bar Harbor, Town of, Hancock County | 230064 | May 7, 1975, Emerg; May 2, 1991, Reg; July 20, 2016, Susp | ......do* | Do.
Bar Island, Hancock County | 231000 | April 4, 1979, Emerg; April 30, 1984, Reg; July 20, 2016, Susp | ......do | Do.
Beach Island, Hancock County | 231025 | April 4, 1979, Emerg; April 30, 1984, Reg; July 20, 2016, Susp | ......do | Do.
Bear Island, Hancock County | 231019 | April 4, 1979, Emerg; April 30, 1984, Reg; July 20, 2016, Susp | ......do | Do.
Big Barred Island, Hancock County | 231016 | April 4, 1979, Emerg; April 30, 1984, Reg; July 20, 2016, Susp | ......do | Do.
Birch Island, Hancock County | 230997 | April 4, 1979, Emerg; April 30, 1984, Reg; July 20, 2016, Susp | ......do | Do.
Blue Hill, Town of, Hancock County | 230274 | April 1, 1976, Emerg; May 3, 1990, Reg; July 20, 2016, Susp | ......do | Do.
Bradbury Island, Hancock County | 231005 | April 4, 1979, Emerg; April 30, 1984, Reg; July 20, 2016, Susp | ......do | Do.
Brooklin, Town of, Hancock County | 230275 | March 8, 1985, Emerg; March 1, 1987, Reg; July 20, 2016, Susp | ......do | Do.
Brooksville, Town of, Hancock County | 230276 | June 11, 1976, Emerg; May 15, 1991, Reg; July 20, 2016, Susp | ......do | Do.
Bucksport, Town of, Hancock County | 230065 | October 17, 1975, Emerg; November 4, 1988, Reg; July 20, 2016, Susp | ......do | Do.
Butter Island, Hancock County | 231015 | April 4, 1979, Emerg; April 30, 1984, Reg; July 20, 2016, Susp | ......do | Do.
Castine, Town of, Hancock County | 230277 | July 24, 1975, Emerg; May 2, 1991, Reg; July 20, 2016, Susp | ......do | Do.
Chain Links Islands—North, Hancock County | 231052 | July 29, 2014, Emerg; N/A, Reg; July 20, 2016, Susp | ......do | Do.
Chain Links Islands—South, Hancock County | 231053 | July 29, 2014, Emerg; N/A, Reg; July 20, 2016, Susp | ......do | Do.
Channel Rock Island, Hancock County | 231029 | April 4, 1979, Emerg; April 30, 1984, Reg; July 20, 2016, Susp | ......do | Do.
Colt Head Island, Hancock County | 231027 | April 4, 1979, Emerg; April 30, 1984, Reg; July 20, 2016, Susp | ......do | Do.
Compass Island, Hancock County | 231022 | April 4, 1979, Emerg; April 30, 1984, Reg; July 20, 2016, Susp | ......do | Do.
Cranberry Isles, Town of, Hancock County | 230278 | June 30, 1976, Emerg; June 17, 1991, Reg; July 20, 2016, Susp | ......do | Do.
Crow Island, Hancock County | 231006 | April 4, 1979, Emerg; April 30, 1984, Reg; July 20, 2016, Susp | ......do | Do.
Dedham, Town of, Hancock County | 230279 | November 19, 2010, Emerg; March 1, 2011, Reg; July 20, 2016, Susp | ......do | Do.
Deer Isle, Town of, Hancock County | 230280 | April 2, 1976, Emerg; May 2, 1991, Reg; July 20, 2016, Susp | ......do | Do.
Eagle Island, Hancock County | 231008 | April 4, 1979, Emerg; April 30, 1984, Reg; July 20, 2016, Susp | ......do | Do.
Eastbrook, Town of, Hancock County | 230281 | June 14, 1976, Emerg; March 1, 1987, Reg; July 20, 2016, Susp | ......do | Do.
Eaton Island, Hancock County | 231001 | April 4, 1979, Emerg; April 30, 1984, Reg; July 20, 2016, Susp | ......do | Do.
Ellsworth, City of, Hancock County | 230066 | January 15, 1975, Emerg; November 4, 1988, Reg; July 20, 2016, Susp | ......do | Do.
Fletchers Landing, Township of, Hancock County | 230458 | March 19, 1975, Emerg; October 1, 1986, Reg; July 20, 2016, Susp | ......do | Do.
Fling Island, Hancock County | 231012 | April 4, 1979, Emerg; April 30, 1984, Reg; July 20, 2016, Susp | ......do | Do.
Franklin, Town of, Hancock County | 230282 | February 4, 1976, Emerg; July 16, 1991, Reg; July 20, 2016, Susp | ......do | Do.
Frenchboro, Town of, Hancock County | 230594 | April 25, 1975, Emerg; April 17, 1987, Reg; July 20, 2016, Susp | ......do | Do.
Gouldsboro, Town of, Hancock County | 230283 | July 20, 1976, Emerg; June 4, 1987, Reg; July 20, 2016, Susp | ......do | Do.
Grass Ledge Island, Hancock County | 231017 | April 4, 1979, Emerg; April 30, 1984, Reg; July 20, 2016, Susp | ......do | Do.
Great Spruce Head Island, Hancock County | 231018 | April 4, 1979, Emerg; April 30, 1984, Reg; July 20, 2016, Susp | ......do | Do.
Hancock, Town of, Hancock County | 230284 | June 1, 1976, Emerg; June 3, 1991, Reg; July 20, 2016, Susp | ......do | Do.
Hardhead Island, Hancock County | 231007 | April 4, 1979, Emerg; April 30, 1984, Reg; July 20, 2016, Susp | ......do | Do.
Hog Island, Hancock County | 230994 | April 4, 1979, Emerg; April 30, 1984, Reg; July 20, 2016, Susp | ......do | Do.
Horsehead Island, Hancock County | 231024 | April 4, 1979, Emerg; April 30, 1984, Reg; July 20, 2016, Susp | ......do | Do.
Inner Porcupine Island, Hancock County | 231009 | April 4, 1979, Emerg; April 30, 1984, Reg; July 20, 2016, Susp | ......do | Do.
Lamoine, Town of, Hancock County | 230285 | June 11, 1975, Emerg; May 2, 1991, Reg; July 20, 2016, Susp | ......do | Do.
Little Barred Island, Hancock County | 231054 | July 29, 2014, Emerg; N/A, Reg; July 20, 2016, Susp | ......do | Do.
Little Marshall Island, Hancock County | 231031 | April 4, 1979, Emerg; April 30, 1984, Reg; July 20, 2016, Susp | ......do | Do.
Little Spruce Head, Hancock County | 231023 | April 4, 1979, Emerg; April 30, 1984, Reg; July 20, 2016, Susp | ......do | Do.
Mariaville, Town of, Hancock County | 230286 | June 30, 1997, Emerg; October 1, 2005, Reg; July 20, 2016, Susp | ......do | Do.
Marshall Island, Hancock County | 231030 | April 4, 1979, Emerg; April 30, 1984, Reg; July 20, 2016, Susp | ......do | Do.
Mount Desert, Town of, Hancock County | 230287 | December 23, 1976, Emerg; August 2, 1990, Reg; July 20, 2016, Susp | ......do | Do.
Orland, Town of, Hancock County | 230288 | June 11, 1975, Emerg; February 4, 1987, Reg; July 20, 2016, Susp | ......do | Do.
Otis, Town of, Hancock County | 230289 | April 24, 1998, Emerg; April 1, 2009, Reg; July 20, 2016, Susp | ......do | Do.
Outer Porcupine Island, Hancock County | 231010 | April 4, 1979, Emerg; April 30, 1984, Reg; July 20, 2016, Susp | ......do | Do.
Peak Island, Hancock County | 231055 | July 29, 2014, Emerg; N/A, Reg; July 20, 2016, Susp | ......do | Do.
Penobscot, Town of, Hancock County | 230290 | June 14, 1976, Emerg; July 16, 1991, Reg; July 20, 2016, Susp | ......do | Do.
Pickering Island, Hancock County | 231002 | April 4, 1979, Emerg; April 30, 1984, Reg; July 20, 2016, Susp | ......do | Do.
Pond Island, Hancock County | 230993 | April 4, 1979, Emerg; April 30, 1984, Reg; July 20, 2016, Susp | ......do | Do.
Pumpkin Island, Hancock County | 230996 | April 4, 1979, Emerg; April 30, 1984, Reg; July 20, 2016, Susp | ......do | Do.
Resolution Island, Hancock County | 231028 | April 4, 1979, Emerg; April 30, 1984, Reg; July 20, 2016, Susp | ......do | Do.
Scott Island, Hancock County | 230998 | April 4, 1979, Emerg; April 30, 1984, Reg; July 20, 2016, Susp | ......do | Do.
Scrag Island, Hancock County | 231020 | April 4, 1979, Emerg; April 30, 1984, Reg; July 20, 2016, Susp | ......do | Do.
Sedgwick, Town of, Hancock County | 230291 | December 23, 1976, Emerg; February 4, 1987, Reg; July 20, 2016, Susp | ......do | Do.
Sheep Island, Hancock County | 230999 | April 4, 1979, Emerg; April 30, 1984, Reg; July 20, 2016, Susp | ......do | Do.
Sloop Island, Hancock County | 231013 | April 4, 1979, Emerg; April 30, 1984, Reg; July 20, 2016, Susp | ......do | Do.
Sloop Island Ledge, Hancock County | 231014 | April 4, 1979, Emerg; April 30, 1984, Reg; July 20, 2016, Susp | ......do | Do.
Sorrento, Town of, Hancock County | 230292 | November 17, 1976, Emerg; September 4, 1985, Reg; July 20, 2016, Susp | ......do | Do.
Southwest Harbor, Town of, Hancock County | 230293 | January 13, 1976, Emerg; June 3, 1991, Reg; July 20, 2016, Susp | ......do | Do.
Spectacle Island, Hancock County | 230995 | April 4, 1979, Emerg; April 30, 1984, Reg; July 20, 2016, Susp | ......do | Do.
Stonington, Town of, Hancock County | 230294 | April 14, 1977, Emerg; June 3, 1991, Reg; July 20, 2016, Susp | ......do | Do.
Sugarloaf, Hancock County | 231056 | July 29,1974, Emerg; N/A, Reg; July 20, 2016, Susp | ......do | Do.
Sullivan, Town of, Hancock County | 230295 | April 15, 1976, Emerg; September 4, 1985, Reg; July 20, 2016, Susp | ......do | Do.
Surry, Town of, Hancock County | 230296 | April 30, 1979, Emerg; May 2, 1991, Reg; July 20, 2016, Susp | ......do | Do.
Swan's Island, Town of, Hancock County | 230297 | July 16, 1976, Emerg; March 1, 1987, Reg; July 20, 2016, Susp | ......do | Do.
T07 SD, Township of, Hancock County | 230598 | April 25, 1975, Emerg; April 30, 1984, Reg; July 20, 2016, Susp | ......do | Do.
Tremont, Town of, Hancock County | 230298 | January 17, 1977, Emerg; August 2, 1990, Reg; July 20, 2016, Susp | ......do | Do.
Trenton, Town of, Hancock County | 230299 | October 7, 1976, Emerg; August 2, 1990, Reg; July 20, 2016, Susp | ......do | Do.
Two Bush Island, Hancock County | 231003 | April 4, 1979, Emerg; April 30, 1984, Reg; July 20, 2016, Susp | ......do | Do.
Waltham, Town of, Hancock County | 230301 | September 26, 1977, Emerg; July 2, 1987, Reg; July 20, 2016, Susp | ......do | Do.
Western Island, Hancock County | 230992 | April 4, 1979, Emerg; April 30, 1984, Reg; July 20, 2016, Susp | ......do | Do.
Winter Harbor, Town of, Hancock County | 230302 | March 31, 1975, Emerg; May 15, 1991, Reg; July 20, 2016, Susp | ......do | Do.
Massachusetts:
Aquinnah, Town of, Dukes County | 250070 | September 7, 1976, Emerg; October 15, 1985, Reg; July 20, 2016, Susp | ......do | Do.
Gosnold, Town of, Dukes County | 250071 | September 29, 1977, Emerg; June 4, 1980, Reg; July 20, 2016, Susp | ......do | Do.
Tisbury, Town of, Dukes County | 250073 | June 20, 1975, Emerg; June 15, 1984, Reg; July 20, 2016, Susp | ......do | Do.
Region II |  |  |  |
New Jersey:
East Windsor, Township of, Mercer County | 340244 | December 19, 1973, Emerg; March 16, 1983, Reg; July 20, 2016, Susp | ......do | Do.
Ewing, Township of, Mercer County | 345294 | October 2, 1970, Emerg; January 30, 1976, Reg; July 20, 2016, Susp | ......do | Do.
Hamilton, Township of, Mercer County | 340246 | December 3, 1971, Emerg; June 15, 1982, Reg; July 20, 2016, Susp | ......do | Do.
Hightstown, Borough of, Mercer County | 340247 | June 9, 1972, Emerg; March 15, 1977, Reg; July 20, 2016, Susp | ......do | Do.
Hopewell, Borough of, Mercer County | 340248 | February 22, 1974, Emerg; February 15, 1978, Reg; July 20, 2016, Susp | ......do | Do.
Hopewell, Township of, Mercer County | 345298 | April 9, 1971, Emerg; June 15, 1973, Reg; July 20, 2016, Susp | ......do | Do.
Lawrence, Township of, Mercer County | 340250 | June 16, 1972, Emerg; December 1, 1977, Reg; July 20, 2016, Susp | ......do | Do.
Pennington, Borough of, Mercer County | 340251 | April 12, 1974, Emerg; June 25, 1976, Reg; July 20, 2016, Susp | ......do | Do.
Princeton, Municipality of, Mercer County | 340252 | September 15, 1972, Emerg; December 4, 1984, Reg; July 20, 2016, Susp | ......do | Do.
Robbinsville, Township of, Mercer County | 340255 | May 28, 1974, Emerg; September 29, 1978, Reg; July 20, 2016, Susp | ......do | Do.
Trenton, City of, Mercer County | 345325 | January 15, 1971, Emerg; December 3, 1971, Reg; July 20, 2016, Susp | ......do | Do.
West Windsor, Township of, Mercer County | 340256 | October 17, 1974, Emerg; May 1, 1984, Reg; July 20, 2016, Susp | ......do | Do.
Region III
Maryland:
Easton, Town of, Talbot County | 240067 | October 9, 1974, Emerg; September 28, 1984, Reg; July 20, 2016, Susp | ......do | Do.
Oxford, Town of, Talbot County | 240068 | March 27, 1974, Emerg; September 28, 1984, Reg; July 20, 2016, Susp | ......do | Do.
Saint Michaels, Town of, Talbot County | 240069 | February 7, 1975, Emerg; November 1, 1984, Reg; July 20, 2016, Susp | ......do | Do.
Talbot County, Unincorporated Areas | 240066 | September 6, 1974, Emerg; May 15, 1985, Reg; July 20, 2016, Susp | ......do | Do.
Trappe, Town of, Talbot County | 240108 | N/A, Emerg; August 15, 2006, Reg; July 20, 2016, Susp | ......do | Do.
Region VII
Missouri:
Marion County, Unincorporated Areas | 290222 | June 28, 1973, Emerg; May 16, 1977, Reg; July 20, 2016, Susp | ......do | Do.
*......do and Do. = ditto.
Code for reading third column: Emerg—Emergency; Reg—Regular; Susp—Suspension

Dated: July 1, 2016
Michael M. Grimm,
Assistant Administrator for Mitigation, Federal Insurance and Mitigation Administration, Department of Homeland Security, Federal Emergency Management Agency

[FR Doc. 2016-17741 Filed 7-26-16; 8:45 am]

BILLING CODE 9110-12-P